ENVIRONMENTAL PROTECTION AGENCY

[EPA-HQ-OPP-2007-0501; FRL-8145-6]

Chloropicrin, Dazomet, 1,3-Dichloropropene, Metam potassium, Metam sodium, and Methyl bromide; Extension of Comment Period

AGENCY: Environmental Protection Agency (EPA).

ACTION: Notice; extension of comment period.

SUMMARY: EPA issued five notices in the Federal Register of May 2, 2007, announcing the availability and seeking comments on EPA's revised human health risk assessments and risk mitigation proposal for the fumigants chloropicrin, dazomet, 1,3-dichloropropene, metam potassium, metam sodium, and methyl bromide. On June 20, 2007, EPA issued a notice in the Federal Register extending the comment period for 60 days, until September 3, 2007. This document is extending the comment period for another 60 days, from September 3, 2007 to November 3, 2007, for the five actions.

DATES: Comments, identified by docket identification (ID) number (see the May 2, 2007 notices) must be received on or before November 3, 2007.

ADDRESSES: Follow the detailed instructions as provided under ADDRESSES in the Federal Register documents of May 2, 2007.

FOR FURTHER INFORMATION CONTACT: The applicable contact persons listed in the Federal Register documents of May 2, 2007.

SUPPLEMENTARY INFORMATION:

I. General Information

A. Does this Action Apply to Me?

The Agency included in the notice a list of those who may be potentially affected by this action. If you have questions regarding the applicability of this action to a particular entity, consult the person listed underFOR FURTHER INFORMATION CONTACT in the Federal Register documents of May 2, 2007.

B. How Can I Access Electronic Copies of this Document?

In addition to accessing an electronic copy of this Federal Register document through the electronic docket at http://www.regulations.gov, you may access thisFederal Register document electronically through the EPA Internet under the “Federal Register” listings at http://www.epa.gov/fedrgstr.

II. What Action is EPA Taking?

This document extends the public comment periods for the fumigants chloropicrin, dazomet, 1,3-dichloropropene, metam potassium, metam sodium, and methyl bromide established in the Federal Register issued on May 2, 2007 (72 FR 24290, FRL-8127-7), (72 FR 24292, FRL-8126-7), (72 FR 24294, FRL-8124-8), (72 FR 24295, FRL-8125-9), and (72 FR 24297, FRL-8125-7). In those documents, EPA announced the availability of the risk assessments and risk mitigation proposal and opened 60-day public comment periods. A subsequent Federal Register Notice issued on June 20, 2007 (FRL-8145-6) extended the comment periods to September 3, 2007. EPA is hereby extending the comment periods, which were set to end on September 3, 2007 to November 3, 2007.

III. What is the Agency's Authority for Taking this Action?

Section 4(g)(2) of the Federal Insecticide, Fungicide, and Rodenticide Act (FIFRA), as amended, directs that, after submission of all data concerning a pesticide active ingredient, the Administrator shall determine whether pesticides containing such active ingredient are eligible for reregistration. Further provisions are made to allow a public comment period. However, the Administrator may extend the comment period if additional time for comment is requested.

In this case, the National Potato Council as well as McDermott, Will, and Emery LLP, on behalf of the Minor Crop Farmer Alliance (MCFA), have requested additional time to develop comments. MCFA is an alliance of more than 100 national and regional organizations and individuals representing growers, shippers, packers, handlers and processors of various agricultural commodities. The Agency believes that an additional 60 days is warranted.

List of Subjects

Environmental protection, Fumigants, Pesticides and pests.

Dated: August 20, 2007.
Margaret Rice,
Acting Director, Special Review and Reregistration Division, Office of Pesticide Programs.

[FR Doc. E7-16813 Filed 8-23-07; 8:45 am]

BILLING CODE 6560-50-S